POSTAL SERVICE BOARD OF GOVERNORS

Sunshine Act Meeting

Times and Dates: 4 p.m., Wednesday, March 22, 2006; and 8:30 a.m., Thursday, March 23, 2006.

Place: Washington, DC, at U.S. Postal Service Headquarters, 475 L'Enfant Plaza, SW.

Status: March 22—4 p.m. (Closed); March 23—8:30 a.m. (Closed).

Matters To Be Considered:

1. Strategic Planning.

2. Rate Case Planning.

3. Financial Update.

4. Labor Negotiations Planning.

5. Personnel Matters and Compensation Issues.

6. Postal Rate Commission Opinion and Recommended Decision in Docket No. MC2006-1, Parcel Return Service.

7. Postal Rate Commission Opinion and Recommended Decision in Docket No. MC2006-2, Extension of Market Test for Repositionable Notes.

Thursday, March 23 at 8:30 a.m. (Closed)

1. Continuation of Wednesday's agenda.

FOR FURTHER INFORMATION CONTACT: Wendy A. Hocking, Secretary of the Board, U.S. Postal Service, 475 L'Enfant Plaza, SW., Washington, DC 20260-1000. Telephone (202) 268-4800.

Wendy A. Hocking,
Secretary.

[FR Doc. 06-2531 Filed 3-10-06; 3:10 pm]

BILLING CODE 7710-12-M